COMMITTEE FOR PURCHASE FROM PEOPLE WHO ARE BLIND OR SEVERELY DISABLED

Procurement List; Proposed Additions and Deletion

AGENCY: Committee for Purchase from People Who Are Blind or Severely Disabled.

ACTION: Proposed Additions to and Deletion from Procurement List.

SUMMARY: The Committee is proposing to add to the Procurement List products and services to be furnished by nonprofit agencies employing persons who are blind or have other severe disabilities, and to delete a product previously furnished by such agencies.

COMMENTS MUST BE RECEIVED ON OR BEFORE: December 7, 2003.

ADDRESSES: Committee for Purchase From People Who Are Blind or Severely Disabled, Jefferson Plaza 2, Suite 10800, 1421 Jefferson Davis Highway, Arlington, Virginia, 22202-3259.

FOR FURTHER INFORMATION CONTACT: Sheryl D. Kennerly, (703) 603-7740.

SUPPLEMENTARY INFORMATION: This notice is published pursuant to 41 U.S.C. 47(a)(2) and 41 CFR 51-2.3. Its purpose is to provide interested persons an opportunity to submit comments on the proposed actions.

Additions

If the Committee approves the proposed additions, the entities of the Federal Government identified in this notice for each product or service will be required to procure the products and services listed below from nonprofit agencies employing persons who are blind or have other severe disabilities.

Regulatory Flexibility Act Certification

I certify that the following action will not have a significant impact on a substantial number of small entities. The major factors considered for this certification were:

1. If approved, the action will not result in any additional reporting, recordkeeping or other compliance requirements for small entities other than the small organizations that will furnish the products and services to the Government.

2. If approved, the action will result in authorizing small entities to furnish the products and services to the Government.

3. There are no known regulatory alternatives which would accomplish the objectives of the Javits-Wagner-O'Day Act (41 U.S.C. 46-48c) in connection with the products and services proposed for addition to the Procurement List. Comments on this certification are invited. Commenters should identify the statement(s) underlying the certification on which they are providing additional information.

End of Certification

The following products and services are proposed for addition to the Procurement List for production by the nonprofit agencies listed:

Products

Product/NSN: Jersey, Flight Deck, Crewman's (The remaining 50% of the Defense Supply Center Philadelphia's Requirement)

8415-00-914-0312

8415-00-914-0313

8415-00-914-0314

8415-00-914-0315

8415-00-914-0316

8415-00-914-0317

8415-00-914-0318

8415-00-914-0319

8415-00-914-0321

8415-00-914-0322

8415-00-914-0323

8415-00-914-0324

8415-00-914-0325

8415-00-914-0326

8415-00-914-0327

8415-00-914-0328

8415-00-914-0329

8415-00-914-0331

8415-00-914-0333

8415-00-914-0334

8415-00-914-0335

8415-00-914-0336

8415-00-914-0337

8415-00-914-0338

8415-00-914-0339

8415-00-914-0340

8415-00-914-4143

8415-00-914-9481

NPA: Bestwork Industries for the Blind, Inc., Runnemede, New Jersey.

NPA: El Paso Lighthouse for the Blind, El Paso, Texas.

NPA: Elizabeth Pierce Olmsted, M.D. Center for the Visually Impaired, Buffalo, New York.

NPA: Westmoreland County Blind Association, Greensburg, Pennsylvania.

Contract Activity: Defense Supply Center Philadelphia, Philadelphia, Pennsylvania.

Product/NSN: Type C Pallet, 3990-00-NSH-0002.

NPA: Goodwill Industries of South Texas, Inc., Corpus Christi, Texas.

Contract Activity: Corpus Christi Army Depot, Texas.

Services

Service Type/Location: Administrative Support Services, USDA, Rural Development Agency, Abrams Federal Building, 1520 Market Street, St. Louis, Missouri.

NPA: MGI Services Corporation, St. Louis, Missouri.

Contract Activity: USDA, Rural Development Agency, St. Louis, Missouri.

Service Type/Location: Base Supply Center, NASA Ames Research Center, Moffett Field, California.

NPA: Associated Industries for the Blind, Milwaukee, Wisconsin.

Contract Activity: NASA Ames Research Center, Moffett Field, California.

Service Type/Location: Custodial Services, VA Community Based Outpatient Clinic North Shore, Lynn, Massachusetts, VA Community Based Outpatient Clinic, Haverill, Massachusetts.

NPA: Morgan Memorial Goodwill Industries, Boston, Massachusetts.

Contract Activity: VA Medical Center—Edith Nourse Rogers Memorial, Bedford, Massachusetts.

Service Type/Location: Mailing Services, U.S. Mint, Washington, DC.

NPA: ServiceSource, Inc., Alexandria, Virginia.

Contract Activity: Department of the Treasury, U.S. Mint, Washington, DC.

Deletion

Regulatory Flexibility Act Certification

I certify that the following action will not have a significant impact on a substantial number of small entities. The major factors considered for this certification were:

1. If approved, the action will not result in any additional reporting, recordkeeping or other compliance requirements for small entities.

2. If approved, the action will result in authorizing small entities to furnish the product to the Government.

3. There are no known regulatory alternatives which would accomplish the objectives of the Javits-Wagner-O'Day Act (41 U.S.C. 46-48c) in connection with the product proposed for deletion from the Procurement List.

End of Certification

The following product is proposed for deletion from the Procurement List:

Product

Product/NSN: Scraper, Ice, 7920-01-323-0793.

NPA: L.C. Industries For The Blind, Inc., Durham, North Carolina.

Contract Activity: GSA, Southwest Supply Center, Fort Worth, Texas.

Sheryl D. Kennerly,
Director, Information Management.

[FR Doc. 03-28111 Filed 11-6-03; 8:45 am]

BILLING CODE 6353-01-P